OFFICE OF SPECIAL COUNSEL

5 CFR Part 1820

Revision of Regulations Governing Freedom of Information Act Requests and Appeals, and Revision of Touhy Regulations Governing Release of Information in Response to Legal Proceedings; Correction

AGENCY: U.S. Office of Special Counsel.

ACTION: Final rule; correction.

SUMMARY: This document corrects the Overview of Comments Received section to a final rule published in the Federal Register as of October 24, 2016, regarding Revision of Regulations Governing Freedom of Information Act Requests and Appeals, and Revision of Touhy Regulations Governing Release of Information in Response to Legal Proceedings. This correction addresses the final paragraph of Section II, Overview of Comments Received, which should be disregarded or removed.

DATES: Effective November 7, 2016.

FOR FURTHER INFORMATION CONTACT: Amy Beckett, Senior Litigation Counsel, U.S. Office of Special Counsel, (202) 254-3657.

SUPPLEMENTARY INFORMATION: In final rule FR Doc. 2016-23215, appearing on page 73015 in the issue of October 24, 2016, make the following correction in the Overview of Comments Received section of the final rule. On page 73016, in the second column, remove the last paragraph of the Comments Received section.

Dated: October 31, 2016.
Bruce Gipe,
Chief Operating Officer.

[FR Doc. 2016-26779 Filed 11-4-16; 8:45 am]

BILLING CODE 7405-01-P